DEPARTMENT OF DEFENSE

Department of the Air Force

Notice of Intent To Prepare an Environmental Impact Statement for SpaceX Starship-Super Heavy Operations at Cape Canaveral Space Force Station

AGENCY: Department of the Air Force, Department of Defense; Federal Aviation Administration; National Aeronautics and Space Administration; and United States Coast Guard.

ACTION: Notice of intent.

SUMMARY: The Department of the Air Force is the lead agency for this notice. The Federal Aviation Administration is a cooperating agency and the National Aeronautics and Space Administration and U.S. Coast Guard were invited to be cooperating agencies for this action. The Department of the Air Force (DAF) is issuing this Notice of Intent (NOI) to prepare an environmental impact statement (EIS) to evaluate the potential environmental impacts associated with (1) the execution of a real property agreement between the United States Space Force (USSF) and Space Exploration Technologies Corp. (SpaceX), which would enable SpaceX to develop a launch site to support Starship-Super Heavy operations, including launch and landing at Cape Canaveral Space Force Station (CCSFS), and (2) the Federal Aviation Administration's (FAA) issuance of a vehicle operator license at the selected launch site and approval of related airspace closures.

DATES: A public scoping period will take place starting from the date of this NOI publication in the Federal Register and will last for 30 days. Comments will be accepted at any time during the environmental impact analysis process; however, to ensure the DAF has sufficient time to consider public scoping comments during preparation of the Draft EIS, please submit comments within the 30-day scoping period.

The DAF invites the public, stakeholders, and other interested parties to attend one or more of the three in-person public scoping meetings or the virtual public scoping meeting. In-person meetings will be held March 5 at Catherine Schweinsberg Rood Central Library, 308 Forrest Ave., Cocoa, FL 32922; March 6 at Titusville Civic Center, 4220 S Hopkins Ave., Titusville, FL 32780; and March 7 at Radisson Resort At The Port, 8701 Astronaut Blvd., Cape Canaveral, FL 32920. Each in-person scoping meeting will take place from 4 to 7 p.m. A virtual meeting is scheduled for March 12 at 6 p.m. Information on how to attend the virtual meeting is available on the project website (SpaceForceStarshipEIS.com). The meetings will provide an opportunity for attendees to learn more about the Proposed Action and Alternatives and provide an early and open process to assist the DAF and its Cooperating Agencies in determining the scope of issues for analysis in the EIS, including identifying significant environmental issues and eliminating from further study non-significant issues. Scope consists of the range of actions, alternatives, and impacts to be considered in the EIS. Project team members will be available to answer questions and there will also be an opportunity to provide oral and written comments. Scoping meeting materials will be provided in English and Spanish.

The Notice of Availability (NOA) of the Draft EIS is anticipated in December 2024 and the NOA for the Final EIS is anticipated in September 2025. A decision could be made no earlier than 30 days after the Final EIS.

ADDRESSES: The project website (SpaceForceStarshipEIS.com) provides information related to the EIS, such as environmental documents, schedule, and project details, as well as a comment form. Comments may be submitted via the website comment form, emailed to ContactUs@SpaceForceStarshipEIS.com, or mailed to CCSFS Starship EIS c/o Jacobs, 5401 W Kennedy Blvd., Suite 300, Tampa, Florida 33609. Members of the public who want to receive future mailings informing them of the availability of the Draft EIS and Final EIS are encouraged to submit a comment that includes their name and email or postal mailing address. For other inquiries, please contact Ms. Molly Thrash, NEPA Project Manager at ContactUs@SpaceForceStarshipEIS.com or 1-813-954-5608.

SUPPLEMENTARY INFORMATION: The purpose for the DAF's Proposed Action is to advance U.S. space capabilities and provide launch and landing infrastructure in furtherance of U.S. policy to ensure capabilities necessary to launch and insert national security payloads into space (United States Code [U.S.C.] Title 10, Section 2273, “Policy regarding assured access to space: national security payloads”).

The need for the DAF's Proposed Action is to ensure National Security Space Launch Assured Access to Space without compromising current launch capabilities and fulfill (in part) U.S. Congress's grant of authority to the Secretary of Defense, pursuant to 10 U.S.C. 2276(a), “Commercial space launch cooperation,” that the Secretary of Defense is permitted to take action to maximize the use of the capacity of the space transportation infrastructure of the Department of Defense (DOD) by the private sector in the U.S.; maximize the effectiveness and efficiency of the space transportation infrastructure of the DOD; reduce the cost of services provided by the DOD related to space transportation infrastructure at launch support facilities and space recovery support facilities; encourage commercial space activities by enabling investment by covered entities in the space transportation infrastructure of the DOD; and foster cooperation between DOD and covered entities.

The DAF has identified a Proposed Action alternative, one reasonable action alternative (Alternative 1), and the No Action Alternative to be carried forward for analysis in the EIS. Under the Proposed Action, SpaceX would modify, reuse, or demolish the existing Space Launch Complex (SLC)-37 infrastructure at CCSFS to support Starship-Super Heavy launch and landing operations. Under Alternative 1, leasing SLC-50 at CCSFS, SpaceX would construct infrastructure to support Starship-Super Heavy launch and landing operations on a site that is currently undeveloped. Under the No Action Alternative, USSF would not enter into a real property agreement with SpaceX, SpaceX would not develop a launch and landing site in support of Starship-Super Heavy launches, and SpaceX would not apply for an FAA vehicle operator license for Starship-Super Heavy launches at either of the alternative SLCs under consideration.

Potential impacts may include noise, air quality, and hazardous material effects associated with operations and construction, as well as effects on biological and cultural resources because of ground disturbance and operational noise and vibrations. Implementation of the Proposed Action would potentially impact wetlands and/or floodplains, therefore this NOI initiates early public review as required per Executive Order 11988 “Floodplain Management.” and Executive Order 11990 “Protection of Wetlands.”

A Federal Coastal Zone Management Act determination will be conducted and coordinated with the Florida State Clearinghouse to determine consistency of the action with the Florida Coastal Management Program. SpaceX would be required to obtain an FAA Vehicle Operator License for the Starship-Super Heavy launch vehicle at CCSFS, which could include launch, reentry, or both. A Clean Air Act Title V operating permit may be required, as well as a Clean Water Act Section 404 permit and National Pollutant Discharge Elimination System permit.

Scoping and Agency Coordination: Consultation will include, but not necessarily be limited to, consultation under Section 7 of the Endangered Species Act and consultation under Section 106 of the NHPA, to include consultation with federally recognized Native American Tribes. Regulatory agencies with special expertise in wetlands and floodplains, such as the U.S. Army Corps of Engineers, will be contacted and asked to comment. The DAF and Cooperating Agencies will determine the scope of the analysis by soliciting comments from interested local, state, and federally elected officials and agencies, federally recognized Native American tribes, as well as interested members of the public. Comments are requested on identification of potential alternatives, information, and analyses relevant to the Proposed Action.

Tommy W. Lee,
Acting Air Force Federal Register Liaison Officer.

[FR Doc. 2024-03554 Filed 2-20-24; 8:45 am]

BILLING CODE 6001-FR-P